DEPARTMENT OF HOMELAND SECURITY

Federal Emergency Management Agency

[FEMA-1552-DR]

Puerto Rico; Amendment No. 4 to Notice of a Major Disaster Declaration

AGENCY: Federal Emergency Management Agency, Emergency Preparedness and Response Directorate, Department of Homeland Security.

ACTION: Notice.

SUMMARY: This notice amends the notice of a major disaster declaration for the Commonwealth of Puerto Rico (FEMA-1552-DR), dated September 17, 2004, and related determinations.

EFFECTIVE DATE: September 29, 2004.

FOR FURTHER INFORMATION CONTACT: Magda Ruiz, Recovery Division, Federal Emergency Management Agency, Washington, DC 20472, (202) 646-2705.

SUPPLEMENTARY INFORMATION: The notice of a major disaster declaration for the Commonwealth of Puerto Rico is hereby amended to include the following areas among those areas determined to have been adversely affected by the catastrophe declared a major disaster by the President in his declaration of September 17, 2004:

Adjuntas, Culebra, Hormigueros, Jayuya, Las Marias, Luquillo, Maricao, and Trujillo Alto Municipalities for Public Assistance [Categories C-G] (already designated for debris removal and emergency protective measures (Categories A & B) under the Public Assistance program, including direct Federal assistance, at 100 percent Federal funding of the total eligible costs for a period of up to 72 hours.)

Aguada, Aguadilla, Aguas Buenas, Aibonito, Arecibo, Arroyo, Barceloneta, Caguas, Camuy, Cayey, Cidra, Comerio, Corozal, Guayama, Hatillo, Humacao, Las Piedras, Manati, Maunabo, Morovis, Naguabo, Orocovis, Patillas, Quebradillas, Rincon, Santa Isabel, Utuado, Vieques, Villalba, and Yabucoa Municipalities for Public Assistance [Categories C-G] (already designated for Individual Assistance and for debris removal and emergency protective measures (Categories A & B) under the Public Assistance program, including direct Federal assistance, at 100 percent Federal funding of the total eligible costs for a period of up to 72 hours.)

Fajardo Municipality for Individual Assistance (already designated for debris removal and emergency protective measures (Categories A & B) under the Public Assistance program, including direct Federal assistance, at 100 percent Federal funding of the total eligible costs for a period of up to 72 hours.)

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050 Individuals and Households Program-Other Needs, 97.036, Public Assistance Grants; 97.039, Hazard Mitigation Grant Program.)
Michael D. Brown,
Under Secretary, Emergency Preparedness and Response, Department of Homeland Security.

[FR Doc. 04-22700 Filed 10-7-04; 8:45 am]

BILLING CODE 9110-10-P